DEPARTMENT OF ENERGY

Federal Energy Regulatory Commission

Combined Notice of Filings #1

Take notice that the Commission received the following electric corporate filings:

Docket Numbers: EC21-134-000.

Applicants: SR Perry, LLC.

Description: Application for Authorization Under Section 203 of the Federal Power Act of SR Perry, LLC.

Filed Date: 9/30/21.

Accession Number: 20210930-5279.

Comment Date: 5 p.m. ET 10/21/21.

Take notice that the Commission received the following exempt wholesale generator filings:

Docket Numbers: EG21-264-000.

Applicants: PGR 2021 Lessee 1, LLC.

Description: Notice of Self-Certification of Exempt Wholesale Generator Status of PGR 2021 Lessee 1, LLC.

Filed Date: 9/30/21.

Accession Number: 20210930-5208.

Comment Date: 5 p.m. ET 10/21/21.

Docket Numbers: EG21-265-000.

Applicants: NET Power, LLC.

Description: Notice of Self-Certification of Exempt Wholesale Generator Status of NET Power, LLC.

Filed Date: 9/30/21.

Accession Number: 20210930-5254.

Comment Date: 5 p.m. ET 10/21/21.

Take notice that the Commission received the following electric rate filings:

Docket Numbers: ER21-2349-002.

Applicants: AR Searcy Project Company, LLC.

Description: Tariff Amendment: AR Searcy Supplement to be effective 9/1/2021.

Filed Date: 9/30/21.

Accession Number: 20210930-5194.

Comment Date: 5 p.m. ET 10/7/21.

Docket Numbers: ER21-2350-002.

Applicants: MS Sunflower Project Company, LLC.

Description: Tariff Amendment: MS Sunflower Deficiency Response to be effective 9/1/2021.

Filed Date: 9/30/21.

Accession Number: 20210930-5195.

Comment Date: 5 p.m. ET 10/21/21.

Docket Numbers: ER21-2526-001.

Applicants: New York Independent System Operator, Inc.

Description: Compliance filing: NYISO compliance errata to its 7/27/21 filing re: Order No. 676 NAESB WEQ to be effective 12/31/9998.

Filed Date: 10/1/21.

Accession Number: 20211001-5149.

Comment Date: 5 p.m. ET 10/22/21.

Docket Numbers: ER21-2986-000.

Applicants: Arizona Public Service Company.

Description: Notice of Cancellation of Service Agreement No. 234 with PacifiCorp of Arizona Public Service Company.

Filed Date: 9/29/21.

Accession Number: 20210929-5184.

Comment Date: 5 p.m. ET 10/20/21.

Docket Numbers: ER21-2987-000.

Applicants: Duke Energy Progress, LLC.

Description: § 205(d) Rate Filing: DEP-NCEMPA Revisions to Rate Schedule No. 200 to be effective 10/1/2021.

Filed Date: 9/30/21.

Accession Number: 20210930-5183.

Comment Date: 5 p.m. ET 10/21/21.

Docket Numbers: ER21-2988-000.

Applicants: Public Service Company of New Mexico.

Description: § 205(d) Rate Filing: PNM Modifications to OATT Schedule 2 to be effective 3/31/2021.

Filed Date: 9/30/21..

Accession Number: 20210930-5188.

Comment Date: 5 p.m. ET 10/21/21.

Docket Numbers: ER21-2991-000.

Applicants: Consumers Energy Company.

Description: Notice of Cancellation of Market Based Rate Tariff of Exeter Entergy Limited Partnership.

Filed Date: 9/30/21.

Accession Number: 20210930-5209.

Comment Date: 5 p.m. ET 10/21/21.

Docket Numbers: ER22-1-000.

Applicants: Alliant Energy Corporate Services, Inc.

Description: § 205(d) Rate Filing: AECS Schedule 2 Update (Burlington) to be effective 11/30/2021.

Filed Date: 10/1/21.

Accession Number: 20211001-5013.

Comment Date: 5 p.m. ET 10/22/21.

Docket Numbers: ER22-10-000.

Applicants: Maverick Wind Project, LLC.

Description: Tariff Amendment: FERC Electric Tariff No. 1 to be effective 10/1/2021.

Filed Date: 10/1/21.

Accession Number: 20211001-5074.

Comment Date: 5 p.m. ET 10/22/21.

Docket Numbers: ER22-11-000.

Applicants: Janis Solar, LLC.

Description: Baseline eTariff Filing: Market-Based Rate Application to be effective 10/2/2021.

Filed Date: 10/1/21.

Accession Number: 20211001-5075.

Comment Date: 5 p.m. ET 10/22/21.

Docket Numbers: ER22-12-000.

Applicants: Puckett Solar, LLC.

Description: Baseline eTariff Filing: Market-Based Rate Application to be effective 10/2/2021.

Filed Date: 10/1/21.

Accession Number: 20211001-5080.

Comment Date: 5 p.m. ET 10/22/21.

Docket Numbers: ER22-13-000.

Applicants: Regan Solar, LLC.

Description: Baseline eTariff Filing: Market-Based Rate Application to be effective 10/2/2021.

Filed Date: 10/1/21.

Accession Number: 20211001-5083.

Comment Date: 5 p.m. ET 10/22/21.

Docket Numbers: ER22-14-000.

Applicants: Darby Solar, LLC.

Description: Baseline eTariff Filing: Market-Based Rate Application to be effective 10/2/2021.

Filed Date: 10/1/21.

Accession Number: 20211001-5084.

Comment Date: 5 p.m. ET 10/22/21.

Docket Numbers: ER22-15-000.

Applicants: ELP Stillwater Solar, LLC.

Description: Baseline eTariff Filing: Market-Based Rate Application to be effective 10/2/2021.

Filed Date: 10/1/21.

Accession Number: 20211001-5085.

Comment Date: 5 p.m. ET 10/22/21.

Docket Numbers: ER22-16-000.

Applicants: Pattersonville Solar, LLC.

Description: Baseline eTariff Filing: Market-Based Rate Application to be effective 10/2/2021.

Filed Date: 10/1/21.

Accession Number: 20211001-5086.

Comment Date: 5 p.m. ET 10/22/21.

Docket Numbers: ER22-17-000.

Applicants: Southern California Edison Company.

Description: Tariff Amendment: Third Amendment LGIA Aratina Solar Center 1 SA No. 198 TOT773 to be effective 10/2/2021.

Filed Date: 10/1/21.

Accession Number: 20211001-5092.

Comment Date: 5 p.m. ET 10/22/21.

Docket Numbers: ER22-18-000.

Applicants: Public Service Company of Colorado.

Description: § 205(d) Rate Filing: 2021-10-01 PSCo-OMID-E&P-662-0.0.0 to be effective 10/2/2021.

Filed Date: 10/1/21.

Accession Number: 20211001-5104.

Comment Date: 5 p.m. ET 10/22/21.

Docket Numbers: ER22-19-000.

Applicants: Stanly Solar, LLC.

Description: Baseline eTariff Filing: Stanly Solar, LLC MBR Tariff to be effective 10/2/2021.

Filed Date: 10/1/21.

Accession Number: 20211001-5110.

Comment Date: 5 p.m. ET 10/22/21.

Docket Numbers: ER22-2-000.

Applicants: Midcontinent Independent System Operator, Inc., International Transmission Company.

Description: § 205(d) Rate Filing: Midcontinent Independent System Operator, Inc. submits tariff filing per 35.13(a)(2)(iii: 2021-10-01_ITC Depreciation Rate Filing to be effective 1/1/2022.

Filed Date: 10/1/21.

Accession Number: 20211001-5029.

Comment Date: 5 p.m. ET 10/22/21.

Docket Numbers: ER22-20-000.

Applicants: PGR 2021 Lessee 1, LLC.

Description: Baseline eTariff Filing: PGR 2021 Lessee 1, LLC MBR Tariff to be effective 10/2/2021.

Filed Date: 10/1/21.

Accession Number: 20211001-5111.

Comment Date: 5 p.m. ET 10/22/21.

Docket Numbers: ER22-21-000.

Applicants: PacifiCorp.

Description: § 205(d) Rate Filing: UMPA TSOA Rev 6 to be effective 11/1/2021.

Filed Date: 10/1/21.

Accession Number: 20211001-5115.

Comment Date: 5 p.m. ET 10/22/21.

Docket Numbers: ER22-22-000.

Applicants: PacifiCorp.

Description: § 205(d) Rate Filing: BPA NITSA—(Idaho Falls Power) Rev 5 to be effective 10/1/2021.

Filed Date: 10/1/21.

Accession Number: 20211001-5146.

Comment Date: 5 p.m. ET 10/22/21.

Docket Numbers: ER22-23-000.

Applicants: Public Service Company of New Mexico.

Description: § 205(d) Rate Filing: Proposed Modifications to PNM's Open Access Transmission Tariff to be effective 12/1/2021.

Filed Date: 10/1/21.

Accession Number: 20211001-5153.

Comment Date: 5 p.m. ET 10/22/21.

Docket Numbers: ER22-24-000.

Applicants: System Energy Resources, Inc.

Description: § 205(d) Rate Filing: SERI UPSA Pension Filing to be effective 12/1/2021.

Filed Date: 10/1/21.

Accession Number: 20211001-5162.

Comment Date: 5 p.m. ET 10/22/21.

Docket Numbers: ER22-25-000.

Applicants: California Independent System Operator Corporation.

Description: § 205(d) Rate Filing: 2021-10-01 EIM Entity Agreement—Bonneville Power Admin to be effective 12/1/2021.

Filed Date: 10/1/21.

Accession Number: 20211001-5166.

Comment Date: 5 p.m. ET 10/22/21.

Docket Numbers: ER22-3-000.

Applicants: Midcontinent Independent System Operator, Inc., ITC Midwest LLC.

Description: § 205(d) Rate Filing: Midcontinent Independent System Operator, Inc. submits tariff filing per 35.13(a)(2)(iii: 2021-10-01_ITCM Depreciation Rate Filing to be effective 1/1/2022.

Filed Date: 10/1/21.

Accession Number: 20211001-5031.

Comment Date: 5 p.m. ET 10/22/21.

Docket Numbers: ER22-4-000.

Applicants: Midcontinent Independent System Operator, Inc., Michigan Electric Transmission Company, LLC.

Description: § 205(d) Rate Filing: Midcontinent Independent System Operator, Inc. submits tariff filing per 35.13(a)(2)(iii: 2021-10-01_METC Depreciation Rate Filing to be effective 1/1/2022.

Filed Date: 10/1/21.

Accession Number: 20211001-5032.

Comment Date: 5 p.m. ET 10/22/21.

Docket Numbers: ER22-5-000.

Applicants: Pacific Gas and Electric Company.

Description: § 205(d) Rate Filing: CCSF Appendix E Revision to Extend Unmetered Load Eligibility (SA 275) to be effective 12/1/2021.

Filed Date: 10/1/21.

Accession Number: 20211001-5044.

Comment Date: 5 p.m. ET 10/22/21.

Docket Numbers: ER22-6-000.

Applicants: PJM Interconnection, L.L.C.

Description: § 205(d) Rate Filing: Original WMPA 6203; Queue No. AF2-398 to be effective 9/1/2021.

Filed Date: 10/1/21.

Accession Number: 20211001-5060.

Comment Date: 5 p.m. ET 10/22/21.

Docket Numbers: ER22-7-000.

Applicants: Branscomb Solar, LLC.

Description: Baseline eTariff Filing: Market-Based Rate Application to be effective 10/2/2021.

Filed Date: 10/1/21.

Accession Number: 20211001-5065.

Comment Date: 5 p.m. ET 10/22/21.

Docket Numbers: ER22-8-000.

Applicants: Southwest Power Pool, Inc.

Description: § 205(d) Rate Filing: 1628R19 Western Farmers Electric Cooperative NITSA NOA to be effective 9/1/2021.

Filed Date: 10/1/21.

Accession Number: 20211001-5068.

Comment Date: 5 p.m. ET 10/22/21.

Docket Numbers: ER22-9-000.

Applicants: Grissom Solar, LLC.

Description: Baseline eTariff Filing: Market-Based Rate Application to be effective 10/2/2021.

Filed Date: 10/1/21.

Accession Number: 20211001-5069.

Comment Date: 5 p.m. ET 10/22/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 1, 2021.
Kimberly D. Bose,
Secretary.

[FR Doc. 2021-21943 Filed 10-6-21; 8:45 am]

BILLING CODE 6717-01-P